DEPARTMENT OF ENERGY

Federal Energy Regulatory Commission

[Docket No. EC00-47.000, et al.]

Huntley Power LLC, Dunkirk, et al.; Electric Rate and Corporate Regulation Filings

January 12, 2000.

Take notice that the following filings have been made with the Commission:

1. Huntley Power LLC, Dunkirk Power LLC, Arthur Kill Power LLC, Astoria Gas Turbine Power LLC, Oswego Harbor Power LLC, Somerset Power LLC, Middletown Power LLC, Devon Power LLC, Connecticut Jet Power LLC, Montville Power LLC, and Norwalk Power LLC

[Docket No. EC00-47-000]

Take notice that on January 10, 2000, Huntley Power LLC, Dunkirk Power LLC, Arthur Kill Power LLC, Astoria Gas Turbine Power LLC, Oswego Harbor Power LLC, Somerset Power LLC, Middletown Power LLC, Devon Power LLC, Connecticut Jet Power LLC, Montville Power LLC, and Norwalk Power LLC (Applicants) filed a request for approval of the disposition of jurisdictional assets that may result from the transfer of Applicants' limited liability company membership interests among Applicants' upstream affiliates.

Comment date: February 9, 2000, in accordance with Standard Paragraph E at the end of this notice.

2. Black River Limited Partnership

[Docket No. EG00-76-000]

Take notice that on January 7, 2000, Black River Limited Partnership (Applicant), a Delaware limited partnership with its principal place of business at J. A. Jones Drive, Charlotte, North Carolina 28287, filed with the Federal Energy Regulatory Commission an Application for Determination of Exempt Wholesale Generator Status pursuant to Part 365 of the Commission's Regulations and Section 32 of the Public Utility Holding Company Act of 1935, as amended.

Applicant owns the Fort Drum Cogeneration Project (the Facility), which is located at the Fort Drum Army Base near Watertown, New York. The Facility, a topping-cycle cogeneration project located at the Fort Drum Army Base near Watertown, New York, was a Commission-certified qualifying facility (QF) through December 31, 1999. The Facility consists of three multi-fuel (coal, petroleum coke and wood chips) fired circulating fluidized bed boilers, an extraction/condensing steam turbine generator with a net electrical capacity of approximately 50 MW and associated transmission components interconnecting the Facility with the grid. The Facility also includes three diesel engine generators that are located at the Facility site and have been used for back-up power, but had not previously been part of the QF. Each of the three distillate oil-fired engine generators has a net electrical capacity of one megawatt. Applicant may install an additional steam turbine that would utilize for power generation the steam that has previously been extracted for useful thermal energy output. If this turbine is installed, the Facility's total net electric capacity would be 60 MW, including three MW of net capacity from the diesel units. A third party will operate the Facility and sell the Facility's electrical energy, capacity and ancillary services exclusively at wholesale.

Copies of the application have been served upon the New York Public Service Commission, the North Carolina Utilities Commission, the South Carolina Public Service Commission and the Securities and Exchange Commission.

Comment date: February 2, 2000, in accordance with Standard Paragraph E at the end of this notice. The Commission will limit its consideration of comments to those that concern the adequacy or accuracy of the application.

3. Calcasieu Power, LLC

[Docket No. EG00-77-000]

Take notice that on January 10, 2000, Calcasieu Power, LLC, 1000 Louisiana, Suite 5800, Houston, Texas filed with the Federal Energy Regulatory Commission an application for determination of exempt wholesale generator status pursuant to Part 365 of the Commission's Regulations.

Calcasieu Power, LLC is a limited liability company, organized under the laws of the State of Delaware, and engaged directly and exclusively in owning and operating the Calcasieu Power, LLC electric generating facility (the Facility) to be located in Calcasieu Parish, Louisiana, and selling electric energy at wholesale. The Facility will consist of two gas turbine generators that are nominally rated at approximately 156 MW and 165 MW, for a total of approximately 321 MW, a metering station, and associated transmission interconnection components.

Comment date: February 2, 2000, in accordance with Standard Paragraph E at the end of this notice. The Commission will limit its consideration of comments to those that concern the adequacy or accuracy of the application.

4. Conectiv Energy Supply, Inc.

[Docket No. ER98-2045-007]

Take notice that on January 11, 2000, Conective Energy Supply, Inc. filed their quarterly report for the quarter ending December 31, 1999, for information only.

5. PS Energy Group, Inc., South Jersey Energy Company, Quark Power L.L.C., Tex Par Energy, Inc., Wilson Power & Gas Smart, Inc., Eastern Pacific Energy, Energy Clearinghouse Corporation, NGTS Energy Services, Cleco Energy LLC

[Docket No. ER99-1876-002, Docket No. ER97-1397-008, Docket No. ER97-2374-011, Docket No. ER95-62-019, Docket No. ER95-751-021, Docket No. ER98-1829-008, Docket No. ER98-2020-006, Docket No. ER96-2892-012, and Docket No. ER98-1170-006]

Take notice that on January 7, 2000, the above-mentioned power marketers filed quarterly reports with the Commission in the above-mentioned proceedings for information only.

6. Lakewood Cogeneration, L.P.

[Docket No. ER00-1051-000]

Take notice that on January 10, 2000, Lakewood Cogeneration, L.P. filed their quarterly report for the quarter ending December 31, 1999.

Comment date: February 1, 2000, in accordance with Standard Paragraph E at the end of this notice.

7. Nicor Energy Management Services Company, Griffin Energy Marketing, L.L.C., Alliance Energy Services Partnership, Poco Marketing Ltd, Alpena Power Marketing, L.L.C., Poco Petroleum, Inc., Tosco Power, Inc., PG Energy PowerPlus, Kaztex Energy Ventures, Inc., Northwest Natural Gas Company, Nordic Electric, L.L.C., Superior Electric Power Corporation, Navitas, Inc., New Jersey Natural Energy Company, SCANA Energy Marketing, Inc., J. L. Walker & Associates, Eclipse Energy Inc., AMVEST Coal Sales, Inc., AMVEST Power, Inc., Eagle Gas Marketing Company, Prairie Winds Energy, Vanpower, Inc., SDS

[Docket No. ER97-1816-010, Docket No. ER97-4168-009, Docket No. ER99-1945-003, Docket No. ER97-2198-010, Docket No. ER97-4745-009, Docket No. ER97-2197-009, Docket No. ER96-2635-012, Docket No. ER98-1953-005, Docket No. ER95-295-021, Docket No. ER97-683-001, Docket No. ER96-127-010, Docket No. ER95-1747-018, Docket No. ER99-2537-002, Docket No. ER96-2627-012, Docket No. ER96-1086-000, Docket No. ER95-1261-017, Docket No. ER95-1261-018, Docket No. ER94-1099-023, Docket No. ER97-464-013, Docket No. ER97-2045-011, Docket No. ER96-1503-015, Docket No. ER95-1234-015, Docket No. ER96-552-016, and Docket No. ER96-1724-009]

Take notice that on January 10, 2000, the above-mentioned power marketers filed quarterly reports with the Commission in the above-mentioned proceedings for information only.

8. Central Maine Power Company

[Docket No. ES00-13-000]

Take notice that on January 10, 2000, Central Maine Power Company (CMP) submitted an application under Section 204 of the Federal Power Act. CMP seeks authorization to issue and renew on or before December 31, 2002, short-term notes in connection with a revolving credit facility, other bank lines of credit, individual negotiated bank offers of short-term funds, a medium-term note program and commercial paper, in each case maturing one year or less after the date of issuance, for an amount not to exceed $130,000,000 at any time.

Comment date: February 3, 2000, in accordance with Standard Paragraph E at the end of this notice.

9. Allegheny Energy Supply Company and West Penn Power Company

[Docket No. ER99-4087-001]

Take notice that on January 10, 2000, Allegheny Energy Supply Company and West Penn Power Company tendered for filing a Purchase and Sale Agreement for Ancillary Services revised to comply with the Commission's order dated December 11, 1999, Allegheny Energy Supply Company and West Penn Power Company, 89 FERC ¶ 61,258 (1999).

Copies of this filing have been served upon the Public Utilities Commission of Ohio, the Pennsylvania Public Utility Commission, the Maryland Public Service Commission, the West Virginia Public Service Commission, and all parties of record.

Comment date: February 1, 2000, in accordance with Standard Paragraph E at the end of this notice.

10. Wisconsin Electric Power Company

[Docket No. ER00-1052-000]

Take notice that on January 10, 2000, Wisconsin Electric Power Company (Wisconsin Electric), tendered for filing short term firm and non-firm transmission service agreements between itself and InPower Marketing Corporation (Inpower). The transmission service agreements allow Inpower to receive transmission services under Wisconsin Energy Corporation Operating Companies' FERC Electric Tariff, Volume No. 1.

Wisconsin Electric requests an effective date coincident with its filing and waiver of the Commission's notice requirements in order to allow for economic transactions as they appear.

Copies of the filing have been served on InPower, the Public Service Commission of Wisconsin and the Michigan Public Service Commission.

Comment date: February 1, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-1273 Filed 1-19-00; 8:45 am]

BILLING CODE 6717-01-P